OFFICE OF MANAGEMENT AND BUDGET

Office of Federal Procurement Policy

DEPARTMENT OF DEFENSE

GENERAL SERVICES ADMINISTRATION

NATIONAL AERONAUTICS AND SPACE ADMINISTRATION

[OMB Control No. 9000-0032; Docket No. FAR-2025-0053; Sequence No. 7]

Submission for OMB Review; Contractor Use of Interagency Fleet Management System Vehicles

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding contractor use of interagency fleet management system vehicles.

DATES: Submit comments on or before August 4, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0032, Contractor Use of Interagency Fleet Management System Vehicles.

B. Need and Uses

This clearance covers the information that contractors must submit to comply with the following Federal Acquisition Regulation (FAR) requirements:

FAR 51.202—For the contracting officer to authorize a contractor's use of Interagency Fleet Management System (IFMS) vehicles, this FAR section requires contractors to submit the following information:

(1) A written statement that the contractor will assume, without the right of reimbursement from the Government, the cost or expense of any use of the IFMS vehicles and services not related to the performance of the contract;

(2) Evidence that the contractor has obtained motor vehicle liability insurance covering bodily injury and property damage, with limits of liability as required or approved by the agency, protecting the contractor and the Government against third-party claims arising from the ownership, maintenance, or use of an IFMS vehicle; and

(3) Any recommendations.

FAR 51.203—Once authorized by the contracting officer, this FAR section requires contractors to submit their request for IFMS vehicles and related services in writing to the appropriate GSA point of contact and include the following information:

(1) Two copies of the agency authorization;

(2) The number of vehicles and related services required and period of use;

(3) A list of employees who are authorized to request the vehicles or related services;

(4) A listing of equipment authorized to be serviced; and

(5) Billing instructions and address.

The contracting officer will use the information to determine the contractor's eligibility to obtain IFMS vehicles and related services, and to authorize this use. The GSA will also use this information to determine whether appropriate authorization has been granted by the contracting officer.

C. Annual Burden

Respondents: 20.

Total Annual Responses: 20.

Total Burden Hours: 20.

D. Public Comment

A 60-day notice was published in the Federal Register at 90 FR 14446, on April 2, 2025. A comment was received; however, it did not change the estimate of the burden.

Comment: The respondent recommended no private contractor be allowed to operate government fleet vehicles because of concerns of potential abuse or misconduct.

Response: The respondents' input is appreciated. Any changes to the collection of information on the use of fleet vehicles by contractors will require rulemaking.

Obtaining Copies: Requesters may obtain a copy of the information collection documents from the GSA Regulatory Secretariat Division, by calling 202-501-4755 or emailing GSARegSec@gsa.gov. Please cite OMB Control No. 9000-0032, Contractor Use of Interagency Fleet Management System Vehicles.

Janet Fry,
Director, Federal Acquisition Policy Division, Office of Governmentwide Acquisition Policy, Office of Acquisition Policy, Office of Governmentwide Policy.

[FR Doc. 2025-12452 Filed 7-2-25; 8:45 am]

BILLING CODE 6820-EP-P